DEPARTMENT OF LABOR

Mine Safety and Health Administration

Proposed Information Collection Request Submitted for Public Comment and Recommendations; Health Standards for Diesel Particulates (Underground Coal)

ACTION: Notice.

SUMMARY: The Department of Labor, as part of its continuing effort to reduce paperwork and respondent burden conducts a pre-clearance consultation program to provide the general public and Federal agencies with an opportunity to comment on proposed and/or continuing collections of information in accordance with the Paperwork Reduction Act of 1995 (PRA95) [44 U.S.C. 3506 (c)(2)(A)]. This program helps to ensure that requested data can be provided in the desired format, reporting burden (time and financial resources) is minimized, collection instruments are clearly understood, and the impact of collection requirements on respondents can be properly assessed.

DATES: Submit comments on or before July 2, 2007.

ADDRESSES: Send comments to, Debbie Ferraro, Management Services Division, 1100 Wilson Boulevard, Room 2171, Arlington, VA 22209-3939. Commenters are encouraged to send their comments on computer disk, or via e-mail to Ferraro.Debbie@DOL.GOV. Ms. Ferraro can be reached at (202) 693-9821 (voice), or (202) 693-9801 (facsimile).

FOR FURTHER INFORMATION CONTACT: The employee listed in the “ADDRESSES” section of this notice.

SUPPLEMENTARY INFORMATION:

I. Background

The Mine Safety and Health Administration's (MSHA) standards and regulations for diesel particulate in underground coal mines serve to protect coal miners who work on and around diesel-powered equipment. The internal combustion engines that power diesel equipment expose miners to potential health risks from exposure to diesel exhaust emissions. These standards and regulations contain information collection requirements for underground coal mine operators.

II. Desired Focus of Comments

MSHA is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

A copy of the proposed information collection request can be obtained by contacting the employee listed in the FOR FURTHER INFORMATION CONTACT section of this notice, or viewed on the Internet by accessing the MSHA home page (http://www.msha.gov) and then choosing “Rules and Regs” and “Federal Register Documents.”

III. Current Actions

Currently, the Mine Safety and Health Administration is soliciting comments concerning the extension of the information collection requirements related to the 30 CFR 75.1915/72.503, § 72.510, § 72.520, and as a result of § 72.500, diesel manufacturers affected under Part 7 or Part 36.

Type of Review: Extension.

Agency: Mine Safety and Health Administration.

Title: Diesel Particulate Matter Exposure of Underground Coal Miners.

OMB Number: 1219-0124.

Recordkeeping: The information gathered is required to be recorded, maintained for the period specified, and made accessible, upon request, to authorized representatives of the Secretary of Labor and miners' representatives. This may be done in a traditional manner by recording on paper, or electronically by computer.

Frequency: On Occasion.

Affected Public: Business or other for-profit.

Respondents: 165.

Total Burden Hours: 623.

Total Burden Cost: $6,409.

Comments submitted in response to this notice will be summarized and/or included in the request for Office of Management and Budget approval of the information collection request; they will also become a matter of public record.

Dated at Arlington, Virginia, this 27th day of April, 2007.
David L. Meyer,
Director, Office of Administration and Management.

[FR Doc. E7-8432 Filed 5-2-07; 8:45 am]

BILLING CODE 4510-43-P